DEPARTMENT OF ENERGY

Energy Information Administration

Agency Information Collection Activities: Proposed Collection; Comment Request; Generic Clearance for the Collection of Qualitative Feedback on Agency Service Delivery

AGENCY: U.S. Energy Information Administration, Department of Energy.

ACTION: Notice and request for comments.

SUMMARY: EIA intends to extend with changes for three years with the Office of Management and Budget (OMB) its Generic Information Collection Request (Generic ICR): “Generic Clearance for the Collection of Qualitative Feedback on Agency Service Delivery” under OMB Control No. 1905-0210. As part of a Federal Government-wide effort to streamline the process to seek feedback from the public on service delivery, this generic clearance enables EIA to collect customer and stakeholder feedback in an efficient, timely manner, in accordance with our commitment to ensure that our programs are effective, meet our customers' needs, and receive feedback on improving service delivery to the public.

DATES: Consideration will be given to all comments received by December 19, 2017. If you anticipate difficulty in submitting comments within that period, contact the person listed in ADDRESSES as soon as possible.

ADDRESSES: Written comments may be sent to Jacob Bournazian, U.S. Energy Information Administration, 1000 Independence Avenue SW., EI-21 Washington, DC 20585 or by email at jacob.bournazian@eia.gov.

FOR FURTHER INFORMATION CONTACT: Requests for additional information or copies of the information collection supporting statement should be directed to Jacob Bournazian, U.S. Energy Information Administration, telephone: 202-586-5562, email: jacob.bournazian@eia.gov.

SUPPLEMENTARY INFORMATION: The proposed information collection activity provides a means to collect qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations. This feedback also provides an early warning of issues with service, or focuses attention on areas where communication, training or changes in operations might improve the accuracy of data reported on survey instruments or the delivery of products or services. These collections will allow for ongoing, collaborative and actionable communications between the agency and its customers and stakeholders. It will also allow feedback to contribute directly to the improvement of program management.

This information collection request contains:

(1) OMB Control No.: 1905-0210;

(2) Information Collection Request Title: Generic Clearance for the Collection of Qualitative Feedback on Agency Service Delivery;

(3) Type of Request: Renewal with changes;

(4) Purpose: The solicitation of feedback will target areas such as: Timeliness, understanding of questions and terminology used in survey instruments, perceptions on data confidentiality and security, appropriateness and relevancy of information, accuracy of information, courtesy, efficiency of service delivery, and resolution of issues with service delivery. Responses will be assessed to plan and inform efforts to improve or maintain the quality of service offered to the public. If this information is not collected, vital feedback from customers and stakeholders on the agency's services will be unavailable.

The agency will only submit a collection for approval under this generic clearance if it meets the following conditions: The collections are voluntary; The collections are low-burden for respondents (based on considerations of total burden hours, total number of respondents, or burden-hours per respondent) and are low-cost for both the respondents and the Federal Government; The collections are non-controversial and do not raise issues of concern to other Federal agencies; Any collection is targeted to the solicitation of opinions from respondents who have experience with the program or may have experience with the program in the near future; Personally identifiable information (PII) is collected only to the extent necessary for initially contacting respondents and is not retained; Information gathered is intended to be used only internally for general service improvement, the design, modification, and evaluation of survey instruments, modes of data collection, and program management purposes. It is not intended for release outside of the agency (if released, the agency must indicate the qualitative nature of the information); Information gathered will not be used for the purpose of substantially informing influential policy decisions; and the collections will not be designed or expected to yield statistically reliable results or used as though the results are generalizable to the population of study. The information gathered will only generate qualitative type of information. Feedback collected under this generic clearance provides useful information, but it does not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results. As a general matter, information collections will not result in any new system of records containing privacy information and will not ask questions of a sensitive nature, such as sexual behavior and attitudes, religious beliefs, and other matters that are commonly considered private.

(5) Annual Estimated Number of Respondents: 80,600.

(6) Annual Estimated Number of Responses: 80,600.

(7) Annual Estimated Number of Burden Hours: 8,450.

Request for Comments: Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection at www.Regulations.gov. Comments submitted in response to this notice may be made available to the public through relevant Web sites. For this reason, please do not include in your comments information of a confidential nature, such as sensitive personal information or proprietary information. If you send an email comment; your email address will be automatically captured and included as part of the comment that is placed in the public docket and made available on the Internet. Please note that responses to this public comment request containing any routine notice about the confidentiality of the communication will be treated as public comments that may be made available to the public notwithstanding the inclusion of the routine notice. An agency may not conduct or sponsor, and a person is not required to respond to, a collection of information unless it displays a currently valid Office of Management and Budget control number.

Statutory Authority: Executive Order (E.O.) 13571, Streamlining Service Delivery and Improving Customer Service.

Issued in Washington, DC, on August 24, 2017.
Nanda Srinivasan,
Director, Office of Survey Development and Statistical Integration, U.S. Energy Information Administration.

[FR Doc. 2017-22802 Filed 10-19-17; 8:45 am]

BILLING CODE 6450-01-P